DEPARTMENT OF ENERGY

Federal Energy Regulatory Commission

Combined Notice of Filings #2

Take notice that the Commission received the following electric rate filings:

Docket Numbers: ER16-1530-000.

Applicants: BIF III Holtwood LLC.

Description: Report Filing: BIF III Holtwood LLC Refund Report Supplemeny to be effective N/A.

Filed Date: 6/19/17.

Accession Number: 20170619-5142.

Comments Due: 5 p.m. ET 7/10/17.

Docket Numbers: ER17-1861-000.

Applicants: Southwest Power Pool, Inc.

Description: § 205(d) Rate Filing: 1976R6 Kaw Valley Electric Cooperative, Inc. NITSA and NOA to be effective 9/1/2017.

Filed Date: 6/19/17.

Accession Number: 20170619-5103.

Comments Due: 5 p.m. ET 7/10/17.

Docket Numbers: ER17-1862-000.

Applicants: Southwest Power Pool, Inc.

Description: § 205(d) Rate Filing: 2900R8 KMEA NITSA NOA to be effective 9/1/2017.

Filed Date: 6/19/17.

Accession Number: 20170619-5110.

Comments Due: 5 p.m. ET 7/10/17.

Docket Numbers: ER17-1863-000.

Applicants: Southern California Edison Company.

Description: § 205(d) Rate Filing: Third Amendment LGIA Nevada Hydro Company—LEAPS Project to be effective 8/19/2017.

Filed Date: 6/19/17.

Accession Number: 20170619-5125.

Comments Due: 5 p.m. ET 7/10/17.

Docket Numbers: ER17-1864-000.

Applicants: Bayshore Solar A, LLC.

Description: Baseline eTariff Filing: Bayshore Solar A, LLC MBR Tariff to be effective 8/19/2017.

Filed Date: 6/19/17.

Accession Number: 20170619-5127.

Comments Due: 5 p.m. ET 7/10/17.

Docket Numbers: ER17-1865-000.

Applicants: San Diego Gas & Electric Company.

Description: TO4 Formula Depreciation Rate Change For Non-Transmission Common Plant and Electric General Plant of San Diego Gas & Electric Company.

Filed Date: 6/19/17.

Accession Number: 20170619-5129.

Comments Due: 5 p.m. ET 7/10/17.

Docket Numbers: ER17-1866-000.

Applicants: Louisville Gas and Electric Company.

Description: § 205(d) Rate Filing: KyMEA Unexecuted NOA to be effective 5/1/2017.

Filed Date: 6/19/17.

Accession Number: 20170619-5139.

Comments Due: 5 p.m. ET 7/10/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 19, 2017.
Nathaniel J. Davis, Sr.,
Deputy Secretary.

[FR Doc. 2017-13110 Filed 6-22-17; 8:45 am]

BILLING CODE 6717-01-P